DEPARTMENT OF HEALTH AND HUMAN SERVICES

Substance Abuse and Mental Health Services Administration

Center for Mental Health Services; Notice of Meeting

Pursuant to Public Law 92-463, notice is hereby given for the meeting of the Substance Abuse and Mental Health Services Administration (SAMHSA), Center for Mental Health Services National Advisory Council (CMHS NAC) on August 21, 2019.

The meeting is open to the public and will include consideration of minutes from the April 22, 2019 SAMHSA CMHS NAC meeting; updates from the CMHS Director; and discussion on Children's School Based/Mental Health, Civil Commitment, and Suicide.

The meeting will be held in Rockville, Maryland and can also be accessed virtually. Attendance by the public will be limited to the space available. Interested persons may present data, information, or views, orally or in writing, on issues pending before the Council. Individuals interested in sending written submissions or making public comments, must forward them and notify the contact person on or before August 14, 2019. Up to three minutes will be allotted for each presentation.

Registration is required to participate during this meeting. To attend in person, virtually, or to obtain the call-in number and access code, submit written or brief oral comments, or request special accommodations for persons with disabilities, please register on-line at: http://snacregister.samhsa.gov/MeetingList.aspx or communicate with the CMHS NAC Designated Federal Officer; Pamela Foote.

Meeting information and a roster of Council members may be obtained by accessing the SAMHSA website at: http://www.samhsa.gov/about-us/advisory-councils/cmhs-national-advisory-council or by contacting the CMHS NAC Designated Federal Officer; Pamela Foote.

Council Name: Substance Abuse and Mental Health Services Administration Center for Mental Health Services National Advisory Council.

Date/Time/Type: Wednesday, August 21, 2019, 9:00 a.m. to 4:00 p.m., EDT, (OPEN).

Place: SAMHSA, 5600 Fishers Lane, Room 5A02, Rockville, Maryland 20857.

Contact: Pamela Foote, Designated Federal Officer, CMHS National Advisory Council, 5600 Fishers Lane, Room 14E53C, Rockville, Maryland 20857, Telephone: (240) 276-1279, Fax: (301) 480-8491, Email: pamela.foote@samhsa.hhs.gov.

Carlos Castillo,
Committee Management Officer, Substance Abuse and Mental Health Services Administration.

[FR Doc. 2019-16694 Filed 8-2-19; 8:45 am]

BILLING CODE 4162-20-P